DEPARTMENT OF TRANSPORTATION

Office of the Secretary

Aviation Proceedings, Agreements Filed During the Week Ending November 10, 2000

The following Agreements were filed with the Department of Transportation under the provisions of 49 U.S.C. Sections 412 and 414. Answers may be filed within 21 days after the filing of the application.

Docket Number: OST-2000-8265.

Date Filed: November 8, 2000.

Parties: Members of the International Air Transport Association.

Subject: CTC COMP 0321 dated 7 November 2000, Resolution 033f—Local Currency Rate Changes—Hungary, Intended effective date: 1 January 2001.

Docket Number: OST-2000-8275.

Date Filed: November 9, 2000.

Parties: Members of the International Air Transport Association.

Subject: PTC31 N&C/CIRC 0134 dated 7 November 2000, TC31 Circle Pacific Expedited Resolution 002q, PTC31 N&C/CIRC 0135 dated 7 November 2000, TC31 Circle Pacific Expedited Resolutions 002k, 073c, Intended effective date: 30 November 2000.

Docket Number: OST-2000-8277.

Date Filed: November 9, 2000.

Parties: Members of the International Air Transport Association.

Subject: PTC31 N&C/CIRC 0136 dated 7 November 2000, North and Central Pacific Areawide Expedited Resolution r-1 PTC31 N&C/CIRC 0137 dated 7 November 2000, TC31 North and Central Pacific, TC3 (except Japan)-North America, Caribbean Expedited Resolutions r2-r10 PTC31 N&C/CIRC 0138 dated 7 November 2000, TC31-North and Central Pacific, TC3-Central America, South America Expedited Resolutions r11-r16, Intended effective date: 1 December 2000.

Dorothy Y. Beard,
Federal Register Liaison.

[FR Doc. 00-29757 Filed 11-20-00; 8:45 am]

BILLING CODE 4910-62-P